DEPARTMENT OF THE INTERIOR

Bureau of Land Management

[LLORB00000.L10200000.BS0000.LXSSH1060000.19X.HAG 19-0028]

Notice of Public Meetings for the Southeast Oregon Resource Advisory Council

AGENCY: Bureau of Land Management, Interior.

ACTION: Notice of public meetings.

SUMMARY: In accordance with the Federal Land Policy and Management Act of 1976 and the Federal Advisory Committee Act of 1972, the U.S. Department of the Interior Bureau of Land Management (BLM) Southeast Oregon Resource Advisory Council (RAC) will meet as indicated below.

DATES: The Southeast Oregon RAC will meet Thursday and Friday, April 4-5, 2019, at 8 a.m. Mountain Standard Time each day; and Wednesday and Thursday, June 12-13, 2019, at 8 a.m. Pacific Daylight Saving Time each day. A public comment period will be offered at 11 a.m. the second day of each meeting (April 5 and June 13).

ADDRESSES: The April 4-5, 2019 meeting will be held at the Vale District office, 100 Oregon St., Vale, Oregon.; and June 12-13, 2019 meeting will be held at the Lakeview Interagency Office, 1301 S G St., Lakeview, Oregon.

FOR FURTHER INFORMATION CONTACT: Larisa Bogardus, Public Affairs Officer, 1301 S G Street, Lakeview, Oregon 97630; 541-947-6811; lbogardus@blm.gov. Persons who use a telecommunications device for the deaf (TDD) may call the Federal Relay Service (FRS) at 1 (800) 877-8339 to contact the above individual during normal business hours. The FRS is available 24 hours a day, 7 days a week, to leave a message with the above individual. You will receive a reply during normal business hours.

SUPPLEMENTARY INFORMATION: The 15-member Southeast Oregon RAC was chartered and appointed by the Secretary of the Interior. Their diverse perspectives are represented in commodity, conservation, and general interests. They provide advice to the BLM, and as needed the Forest Service, and resource managers regarding management plans and proposed resource actions on public land in southeast Oregon. All meetings are open to the public in their entirety. Information to be distributed to the RAC is requested prior to the start of each meeting.

Agenda items include recommendations regarding inventory for areas identified by the BLM needing public input in the Southeast Oregon and Lakeview Resource Management Plan Amendment processes with comments on management thereof; management of energy and minerals, timber, rangeland and grazing, commercial and dispersed recreation, wildland fire and fuels, and wild horses and burros; review and/or recommendations regarding proposed actions by Burns, Vale, or Lakeview BLM districts; and any other business that may reasonably come before the RAC. A final agenda will be posted online at https://www.blm.gov/get-involved/resource-advisory-council/near-you/oregon-washington/southeast-oregon-rac at least one week prior to the meeting.

Before including your address, phone number, email address, or other personal identifying information in your comments, please be aware that your entire comment—including your personal identifying information—may be made publicly available at any time. While you can ask us in your comment to withhold your personal identifying information from public review, we cannot guarantee we will be able to do so.

Authority: 43 CFR 1784.4-2.

Holly Orr,
Acting Burns District Manager.

[FR Doc. 2019-01835 Filed 2-8-19; 8:45 am]

BILLING CODE 4310-33-P